DEPARTMENT OF COMMERCE

International Trade Administration

[A-552-801]

Certain Frozen Fish Fillets From the Socialist Republic of Vietnam: Preliminary Results of Antidumping Duty New Shipper Reviews; 2011-2012

AGENCY: Import Administration, International Trade Administration, Department of Commerce.

SUMMARY: The Department of Commerce (“the Department”) is conducting four new shipper reviews (“NSRs”) of the antidumping duty order on certain frozen fish fillets from the Socialist Republic of Vietnam (“Vietnam”). The period of review (“POR”) is August 1, 2011, through January 31, 2012. The reviews cover four exporters of subject merchandise: Quang Minh Seafood Co., Ltd. (“Quang Minh”); Dai Thanh Seafoods Company Limited (“Dathaco”); Fatifish Company Limited (“Fatifish”); and Hoang Long Seafood Processing Co., Ltd. (“Hoang Long”) (collectively, the “New Shipper Respondents”). The Department has preliminarily determined that the New Shipper Respondents did not sell subject merchandise at less than normal value (“NV”).

DATES: Effective Date: January 30, 2013.

FOR FURTHER INFORMATION CONTACT: Jerry Huang, Toni Dach, and Seth Isenberg, AD/CVD Operations, Office 9, Import Administration, International Trade Administration, U.S. Department of Commerce, 14th Street and Constitution Avenue NW., Washington, DC 20230; telephone: (202) 482-4047, (202) 482-1655 and (202) 482-0588.

SUPPLEMENTARY INFORMATION:

Scope of the Order

The product covered by the order is frozen fish fillets, including regular, shank, and strip fillets and portions thereof, whether or not breaded or marinated, of the species Pangasius Bocourti, Pangasius Hypophthalmus (also known as Pangasius), and Pangasius Micronemus. These products are classifiable under tariff article codes 1604.19.4000, 1604.19.5000, 0305.59.4000, 0304.29.6033 of the Harmonized Tariff Schedule of the United States (“HTSUS”). Although the HTSUS subheading is provided for convenience and customs purposes, our written description of the scope of the order is dispositive.¹

¹ See “Decision Memorandum for Preliminary Results of Antidumping Duty New Shipper Reviews: Certain Frozen Fish Fillets from the Socialist's Republic of Vietnam” from Christian Marsh, Deputy Assistant Secretary for Antidumping and Countervailing Duty Operations to Paul Piquado, Assistant Secretary for Import Administration, dated January 24, 2013 (“Preliminary Decision Memorandum”) and hereby adopted by this notice for a complete description of the Scope of the Order.

Methodology

The Department has conducted these reviews in accordance with section 751(a)(2)(B) of the Tariff Act of 1930, as amended (“the Act”) and 19 CFR 351.214. Export prices have been calculated in accordance with section 772 of the Act. Because Vietnam is a nonmarket economy within the meaning of section 771(18) of the Act, normal value has been calculated in accordance with section 773(c) of the Act. Specifically, the New Shipper Respondents' factors of production have been valued primarily in Bangladesh, which is economically comparable to Vietnam and is a significant producer of comparable merchandise, consistent with section 773(c)(2) of the Act. When data were not available from Bangladesh, we used Indian, Indonesian and Philippine sources.

For a full description of the methodology underlying our conclusions, please see the Preliminary Decision Memorandum. The Preliminary Decision Memorandum is a public document and is on file electronically via Import Administration's Antidumping and Countervailing Duty Centralized Electronic Service System (“IA ACCESS”). IA ACCESS is available to registered users at http://iaaccess.trade.gov and in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Preliminary Results of the Review

The Department preliminarily finds that the following margins exist for the period August 1, 2010, to January 31, 2011.

Exporter | Producer | Weighted-average margin (dollars per kilogram)
Quang Minh Seafood Co., Ltd | Quang Minh Seafood Co., Ltd | 0.00
Dai Thanh Seafoods Company Limited | Dai Thanh Seafoods Company Limited | 0.00
Fatifish Company Limited | Fatifish Company Limited | 0.00
Hoang Long Seafood Processing Co., Ltd | Hoang Long Seafood Processing Co., Ltd | 0.00

Disclosure and Public Comments

The Department intends to disclose calculations performed for these preliminary results to the parties within five days of the date of publication of this notice in accordance with 19 CFR 351.224(b). Interested parties are invited to comment on the preliminary results of these reviews. Interested parties may submit case briefs and/or written comments no later than 30 days after the date of publication of the preliminary results of review.² Rebuttal briefs and rebuttals to written comments, limited to issues raised in such briefs or comments, may be filed no later than five days after the time limit for filing the case briefs.³

² See 19 CFR 351.309(c)(1)(ii); Parties submitting written comments must submit them pursuant to the Department's e-filing regulations. See https://iaaccess.trade.gov/help/IA%20ACCESS%20User%20Guide.pdf.

³ See 19 CFR 351.309(d)(1)-(2).

Any interested party may request a hearing within 30 days of publication of these preliminary results.⁴ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW, Washington, DC 20230.⁵

⁴ See 19 CFR 351.310(c).

⁵ See 19 CFR 351.310(d).

The Department intends to issue the final results of these new shipper reviews, which will include the results of its analysis of issues raised in all comments and at any hearing, within 90 days of publication of these preliminary results, pursuant to section 751(a)(2)(B)(iv) of the Act.

Deadline for Submission of Publicly Available Surrogate Value Information

In accordance with 19 CFR 351.301(c)(3)(ii), the deadline for submission of publicly available information to value factors of production under 19 CFR 351.408(c) is 20 days after the date of publication of the preliminary results. In accordance with 19 CFR 351.301(c)(1), if an interested party submits factual information less than ten days before, on, or after (if the Department has extended the deadline) the applicable deadline for submission of such factual information, an interested party may submit factual information to rebut, clarify, or correct the factual information no later than ten days after such factual information is served on the interested party. However, the Department generally will not accept in the rebuttal submission additional or alternative surrogate value information not previously on the record, if the deadline for submission of surrogate value information has passed.⁶ Furthermore, the Department generally will not accept business proprietary information in either the surrogate value submissions or the rebuttals thereto, as the regulation regarding the submission of surrogate values allows only for the submission of publicly available information.⁷

⁶ See, e.g., Glycine from the People's Republic of China: Final Results of Antidumping Duty Administrative Review and Final Rescission, in Part, 72 FR 58809 (October 17, 2007), and accompanying Issues and Decision Memorandum at Comment 2.

⁷ See 19 CFR 351.301(c)(3).

Assessment Rates

Upon completion of the final results, pursuant to 19 CFR 351.212(b), the Department will determine, and U.S. Customs Border and Protection (“CBP”) shall assess, antidumping duties on all appropriate entries on a per-unit basis for the New Shipper Respondents. The Department intends to issue assessment instructions to CBP 15 days after the date of publication of the final results of review. Pursuant to 19 CFR 351.212(b)(1), we will calculate importer-specific (or customer) per-unit duty assessment rates. We will instruct CBP to assess antidumping duties on all appropriate entries covered by this review if any importer-specific assessment rate calculated in the final results of this review is above de minimis. The final results of these reviews shall be the basis for the assessment of antidumping duties on entries of merchandise covered by the final results of these reviews and for future deposits of estimated duties, where applicable.

Cash Deposit Requirements

The following cash deposit requirements will be effective upon publication of the final results of these new shipper reviews for all shipments of subject merchandise from the New Shipper Respondents entered, or withdrawn from warehouse, for consumption on or after the publication date, as provided for by section 751(a)(2)(C) of the Act: (1) For subject merchandise produced and exported by the New Shipper Respondents, the cash deposit rate will be the rates established in the final results of these reviews (except, if a rate is zero or de minimis, no cash deposit will be required); (2) for subject merchandise exported by the New Shipper Respondents but not manufactured by the New Shipper Respondents, the cash deposit rate will continue to be the Vietnam-wide rate (i.e., $2.11 per kilogram); ⁸ and (3) for subject merchandise manufactured by the New Shipper Respondents, but exported by any other party, the cash deposit rate will be the rate applicable to the exporter. These cash deposit requirements, when imposed, shall remain in effect until further notice.

⁸ See Certain Frozen Fish Fillets from the Socialist Republic of Vietnam: Final Results of the Antidumping Duty Administrative Review and New Shipper Reviews, 75 FR 12726, 12728 (March 17, 2010).

Notification to Interested Parties

This notice serves as a preliminary reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

We are issuing and publishing this determination in accordance with sections 751(a)(2)(B) and 777(i)(1) of the Act.

Dated: January 24, 2013.
Paul Piquado,
Assistant Secretary for Import Administration.

[FR Doc. 2013-02001 Filed 1-29-13; 8:45 am]

BILLING CODE 3510-DS-P